DEPARTMENT OF THE INTERIOR

Bureau of Indian Affairs

[Docket No. BIA-2022-0005-0024; 2231A2100DD/AAKC001030/A0A501010.999900; OMB Control Number 1076-0017, 1076-0100, 1076-0172, 1076-0176, 1076-0177, 1076-0179, 1076-0187, 1076-0188, 1076-0195, 1076-0196]

Agency Information Collection Activities; Request for Comment on Fiscal Year 2024 Expirations Under the Paperwork Reduction Act

AGENCY: Bureau of Indian Affairs, Interior.

ACTION: Notice of information collection; request for comment.

SUMMARY: In accordance with the Paperwork Reduction Act of 1995, we, the Bureau of Indian Affairs (BIA), Bureau of Indian Education (BIE), and Office of the Assistant Secretary—Indian Affairs (AS-IA) are proposing to renew ten (10) information collections. Office of Management and Budget (OMB) Control Number 1076-0017, 1076-0100, 1076-0172, 1076-0176, 1076-0177, 1076-0179, 1076-0187, 1076-0188, 1076-0195, and 1076-0196.

DATES: Interested persons are invited to submit comments on or before March 6, 2023.

ADDRESSES: To submit a comment, please visit https://www.regulations.gov/document/BIA-2022-0005-0024 or https://www.regulations.gov/docket/BIA-2022-0005 or use the search field on https://www.regulations.gov to find the “BIA-2022-0005” docket. Please follow the comment instructions on Regulations.gov and reference the applicable OMB Control Number within your comment submission.

FOR FURTHER INFORMATION CONTACT: Steven Mullen, Information Collection Clearance Officer, by email at comments@bia.gov or telephone at (202) 924-2650. Individuals in the United States who are deaf, deafblind, hard of hearing, or have a speech disability may dial 711 (TTY, TDD, or TeleBraille) to access telecommunications relay services. You may also view the ICR at http://www.reginfo.gov/public/do/PRAMain.

SUPPLEMENTARY INFORMATION: In accordance with the Paperwork Reduction Act of 1995 (PRA, 44 U.S.C. 3501 et seq.) and 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether the collection of information is necessary for the proper performance of the functions of the agency, including whether the information will have practical utility;

(2) The accuracy of our estimate of the burden for the collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve the ICR. Before including your address, phone number, email address, or other personal identifying information in your comment, you should be aware that your entire comment—including your personal identifying information—may be made publicly available at any time. While you can ask us in your comment to withhold your personal identifying information from public review, we cannot guarantee that we will be able to do so.

OMB Control Number 1076-0017

Abstract: We, Bureau of Indian Affairs (BIA) are proposing to renew an information collection. The information collection allows BIA to determine whether an individual is eligible for assistance and services under 25 CFR part 20 when comparable financial assistance or social services either are not available or not provided by State, Tribal, county, local, or other Federal agencies. No third-party notification or public disclosure burden is associated with this collection.

Title of Collection: Financial Assistance and Social Services Program.

OMB Control Number: 1076-0017.

Form Number: None.

Type of Review: Extension of a currently approved collection.

Respondents/Affected Public: Individual Indians seeking financial assistance or social services from BIA.

Total Estimated Number of Annual Respondents: 140,000 provide information on the application; of those, 72,000 contribute information to an employability assessment and ISP.

Total Estimated Number of Annual Responses: 196,000.

Estimated Completion Time per Response: One half hour for the application and 1 hour for the employability assessment and ISP.

Total Estimated Number of Annual Burden Hours: 134,000 hours.

Respondent's Obligation: Required to obtain a benefit.

Frequency of Collection: Once per respondent.

Total Estimated Annual Nonhour Burden Cost: $0.

OMB Control Number 1076-0100

Abstract: We, the Bureau of Indian Affairs (BIA), are proposing to renew an information collection. Section 5 of the Indian Reorganization Act of June 18, 1934 (25 U.S.C. 5108) and the Indian Land Consolidation Act of January 12, 1983 (25 U.S.C. 2202) authorize the Secretary of the Interior (Secretary), in his/her discretion, to acquire lands through purchase, relinquishment, gift, exchange, or assignment within or without existing reservations for the purpose of providing land for Indian Tribes. Other specific laws also authorize the Secretary to acquire lands for individual Indians and Tribes. Regulations implementing the acquisition authority are at 25 CFR 151. In order for the Secretary to acquire land on behalf of individual Indians and Tribes, the BIA must collect certain information to identify the party(ies) involved and to describe the land in question. The Secretary also solicits additional information deemed necessary to make a determination to accept or reject an application to take land into trust for the individual Indian or Tribe, as set out in 25 CFR 151. This information collection allows the BIA to review applications for compliance with regulatory and statutory requirements. No specific form is used.

Title of Collection: Acquisition of Trust Land.

OMB Control Number: 1076-0100.

Form Number: None.

Type of Review: Extension of a currently approved collection.

Respondents/Affected Public: Individual Indians and Federally Recognized Indian Tribes seeking acquisition of land into trust status.

Total Estimated Number of Annual Respondents: 500.

Total Estimated Number of Annual Responses: 500.

Estimated Completion Time per Response: Ranges from 100 to 150 hours.

Total Estimated Number of Annual Burden Hours: 55,000.

Respondent's Obligation: Required to obtain or retain a benefit.

Frequency of Collection: On occasion.

Total Estimated Annual Nonhour Burden Cost: $0.

OMB Control Number 1076-0172

Abstract: We, the Office of the Assistant Secretary—Indian Affairs (AS-IA), are proposing to renew an information collection. The information collected includes Tribal-state compacts or compact amendments entered into by Indian Tribes and State governments. The Secretary of the Interior reviews this information under 25 CFR 293, Class III Tribal-State Gaming Compact Process and the Indian Gaming Regulatory Act (IGRA), 25 U.S.C. 2710(d)(8)(A), (B) and (C), which authorizes the Secretary to approve, disapprove, or “consider approved” (i.e., deemed approved) a Tribal-state gaming compact or compact amendment and publish notice of that approval or considered approval in the Federal Register.

Title of Collection: Class III Tribal-State Gaming Compact Process.

OMB Control Number: 1076-0172.

Form Number: None.

Type of Review: Extension of a currently approved collection.

Respondents/Affected Public: Indian Tribes and State governments.

Total Estimated Number of Annual Respondents: 40 per year.

Total Estimated Number of Annual Responses: 40 per year.

Estimated Completion Time per Response: 200 hours.

Total Estimated Number of Annual Burden Hours: 8,000 hours.

Respondent's Obligation: Required to obtain a benefit.

Frequency of Collection: One time.

Total Estimated Annual Nonhour Burden Cost: $0.

OMB Control Number 1076-0176

Abstract: We, the Bureau of Indian Education (BIE) are proposing to renew an information collection. Indian Tribes and Tribal organizations must submit information to the BIE if they are served by elementary or secondary schools for Indian children that, through Department of the Interior, receive allocations of funding under the IDEIA for the coordination of assistance for Indian children 0 to 5 years of age with disabilities on reservations. The information must be provided on two forms. The Part B form addresses Indian children 3 to 5 years of age on reservations served by Bureau-funded schools. The Part C form addresses Indian children up to 3 years of age on reservations served by Bureau-funded schools. The information required by the forms includes counts of children as of a certain date each year.

Title of Collection: IDEIA Part B and Part C Child Count.

OMB Control Number: 1076-0176.

Form Number: N/A.

Type of Review: Extension of a currently approved collection.

Respondents/Affected Public: Indian Tribes and Tribal organizations.

Total Estimated Number of Annual Respondents: 118.

Total Estimated Number of Annual Responses: 118.

Estimated Completion Time per Response: 20 hours per form.

Total Estimated Number of Annual Burden Hours: 2,360 hours.

Respondent's Obligation: Required to obtain a benefit.

Frequency of Collection: Twice (once per year for each form).

Total Estimated Annual Nonhour Burden Cost: $0.

OMB Control Number 1076-0177

Abstract: We, the Office of the Assistant Secretary—Indian Affairs (AS-IA), are proposing to renew an information collection. The Energy Policy Act of 2005 authorizes the Secretary of the Interior to provide assistance to Indian Tribes and Tribal energy resource development organizations for energy development and appropriates funds for such projects on a year-to-year basis. See 25 U.S.C. 3502. When funding is available, the Office of Indian Energy and Economic Development (IEED) may solicit proposals for projects for building capacity for Tribal energy resource development on Indian land from Tribal energy resource development organizations and Indian Tribes, including Alaska Native regional and village corporations under the TEDC program. For the purposes of this program, “Indian land” includes: all land within the boundaries of an Indian reservation, pueblo, or rancheria; any land outside those boundaries that is held by the United States in trust for a Tribe or individual Indian or by a Tribe or individual Indian with restrictions on alienation; and land owned by an Alaska Native regional or village corporation.

Title of Collection: Tribal Energy Development Capacity Program.

OMB Control Number: 1076-0177.

Form Number: None.

Type of Review: Extension of a currently approved collection.

Respondents/Affected Public: Indian Tribes and Tribal energy resource development organizations under 25 U.S.C. 3502.

Total Estimated Number of Annual Respondents: 26 per year, on average; 9 project participants each year, on average.

Total Estimated Number of Annual Responses: 40 applications per year, on average; 44 progress reports per year, on average.

Estimated Completion Time per Response: 40 hours per application; 1.5 hours per progress report.

Total Estimated Number of Annual Burden Hours: 1,666 hours (1,600 for applications and 66 for progress reports).

Respondent's Obligation: Responses required to receive a benefit.

Frequency of Collection: Once per year for applications; 4 times per year for progress reports.

Total Estimated Annual Nonhour Burden Cost: $0.

OMB Control Number 1076-0179

Abstract: We, the Bureau of Indian Education (BIE) are proposing to renew an information collection. The Individuals with Disabilities Education Improvement Act (IDEA) of 2004, (20 U.S.C. 1400 et seq.) requires the Bureau of Indian Education (BIE) to establish an Advisory Board on Exceptional Education. See 20 U.S.C. 1411(h)(6). BIE is seeking renewal for an information collection that would allow it to collect information regarding individuals' qualifications to serve on the Federal advisory committee known as the Advisory Board for Exceptional Children (Board). This information collection requires persons interested in being nominated to serve on the Board to provide information regarding their qualifications. This Board is currently in operation. This information collection allows BIE to better manage the nomination process for future appointments to the Board.

Title of Collection: Solicitation of Nominations for the Advisory Board for Exceptional Children.

OMB Control Number: 1076-0179.

Form Number: None.

Type of Review: Extension of a currently approved collection.

Respondents/Affected Public: Individuals.

Total Estimated Number of Annual Respondents: 20, per year.

Total Estimated Number of Annual Responses: 20, per year.

Estimated Completion Time per Response: 1 hour.

Total Estimated Number of Annual Burden Hours: 20 hours.

Respondent's Obligation: Required to obtain or retain a benefit.

Frequency of Collection: Once.

Total Estimated Annual Nonhour Burden Cost: $0.

OMB Control Number 1076-0187

Abstract: We, the Bureau of Indian Education (BIE) are proposing to renew an information collection. The BIE is establishing standards for the appropriate use of lands and facilities by third parties. These standards address the following: The execution of lease agreements; the establishment and administration of mechanisms for the acceptance of consideration for the use and benefit of a Bureau-operated school; the assurance of ethical conduct; and monitoring the amount and terms of consideration received, the manner in which the consideration is used, and any results achieved by such use. The paperwork burden associated with the rule results from lease provisions; lease violations; and assignments, subleases, or mortgages of leases.

Title of Collection: Use of Bureau-Operated Schools by Third Parties.

OMB Control Number: 1076-0187.

Form Number: None.

Type of Review: Extension of a currently approved collection.

Respondents/Affected Public: Individuals and private sector.

Total Estimated Number of Annual Respondents: 17.

Total Estimated Number of Annual Responses: 24.

Estimated Completion Time per Response: One to three hours.

Total Estimated Number of Annual Burden Hours: 68 hours.

Respondent's Obligation: Required to obtain a benefit.

Frequency of Collection: Annually.

Total Estimated Annual Nonhour Burden Cost: $0.

OMB Control Number 1076-0188

Abstract: We, the Bureau of Indian Affairs (BIA), are proposing to renew an information collection. Title III of the Indian Trust Asset Reform Act (25 U.S.C. 5601, et seq.) requires the Secretary of the Interior to publish minimum qualifications for appraisers of Indian property and allows the Secretary to accept appraisals performed by those appraisers without further review or approval. The Secretary has developed a regulation at 43 CFR 100 to implement these provisions. The regulation requires appraisers to submit certain information so that the Secretary can verify that the appraiser meets the minimum qualifications.

Title of Collection: Appraisals & Valuations of Indian Property.

OMB Control Number: 1076-0188.

Form Number: N/A.

Type of Review: Extension of a currently approved collection.

Respondents/Affected Public: Individual Indians and Federally Recognized Indian Tribes.

Total Estimated Number of Annual Respondents: 379.

Total Estimated Number of Annual Responses: 1,137.

Estimated Completion Time per Response: One hour.

Total Estimated Number of Annual Burden Hours: 1,137.

Respondent's Obligation: Required to obtain a benefit.

Frequency of Collection: On occasion.

Total Estimated Annual Nonhour Burden Cost: $0.

OMB Control Number 1076-0195

Abstract: We, the Bureau of Indian Affairs (BIA), are proposing to renew an information collection. This information collection is authorized under 25 U.S.C. 5135; 70 Stat. 62 and 25 CFR 152.34 which provides individual Indians owning an individual tract of trust land the ability to mortgage their land for the purpose of home acquisition and construction, home improvements, and economic development. The BIA is required to review the trust mortgage application for conformity to statutes, policies, and regulations. Mortgage documents submitted to BIA from the lending institutions will assist BIA staff in their analysis to approve or disapprove a trust land mortgage application request.

Title of Collection: Trust Land Mortgage Lender Checklists.

OMB Control Number: 1076-0195.

Form Number: None.

Type of Review: Extension of a currently approved collection.

Respondents/Affected Public: Individuals/households, Tribal governments.

Total Estimated Number of Annual Respondents: 56.

Total Estimated Number of Annual Responses: 131.

Estimated Completion Time per Response: Varies from 20 to 40 hours.

Total Estimated Number of Annual Burden Hours: 3,840.

Respondent's Obligation: Required to obtain or retain a benefit.

Frequency of Collection: Annually.

Total Estimated Annual Nonhour Burden Cost: $0.

OMB Control Number 1076-0196

Abstract: We, the Bureau of Indian Affairs (BIA), are proposing to renew an information collection. The Land Title and Records Office (LTRO) maintains title documents for land that the United States holds in trust or restricted status for individual Indians or Tribes (Indian land), much like counties and other localities maintain title documents for fee land within their jurisdictions. Individuals or entities that are requesting information regarding title documents—either for property they own or for property they seek to lease or encumber—must provide certain information to the LTRO in order for LTRO to accurately identify the property for which they are seeking information. LTRO uses the information provided by individuals or entities in order to identify the property so that they can retrieve the appropriate title documents and produce reports for that property. The collection of information is found in § 150.305, which provides that anyone requesting title documents or reports must provide certain information, such as the name of the reservation where the land is located and the tract number or legal description.

Title of Collection: Requests for Indian Land Title and Records Information.

OMB Control Number: 1076-0196.

Form Number: None.

Type of Review: Extension of a currently approved collection.

Respondents/Affected Public: Individuals, private sector, government.

Total Estimated Number of Annual Respondents: 36.

Total Estimated Number of Annual Responses: 36.

Estimated Completion Time per Response: 0.5 hours.

Total Estimated Number of Annual Burden Hours: 19 hours (consisting of 10 hours for private sector respondents, 3 hours for individual respondents—rounded up from 2.5 hours, and 6 hours for government respondents—rounded up from 5.5 hours).

Respondent's Obligation: Required to obtain a benefit.

Frequency of Collection: Occasionally.

Total Estimated Annual Nonhour Burden Cost: $500.

Authority

An agency may not conduct or sponsor and a person is not required to respond to a collection of information unless it displays a currently valid OMB control number. The authority for these ICR actions is the Paperwork Reduction Act of 1995 (44 U.S.C. 3501 et seq.).

Steven Mullen,
Information Collection Clearance Officer, Office of Regulatory Affairs and Collaborative, Office of the Assistant Secretary—Indian Affairs.

[FR Doc. 2022-28612 Filed 1-4-23; 8:45 am]

BILLING CODE 4337-15-P